DEPARTMENT OF HEALTH AND HUMAN SERVICES

Centers for Disease Control and Prevention

Disease, Disability, and Injury Prevention and Control Special Emphasis Panel (SEP): Spina Bifida Patient Registry Demonstration Project (U01), Program Announcement Number (PA) DP 08-001

In accordance with section 10(a)(2) of the Federal Advisory Committee Act (Pub. L. 92-463), the Centers for Disease Control and Prevention (CDC) announces the aforementioned meeting.

Time and Date: 8 a.m.-5 p.m., July 10, 2008 (Closed).

Place: Grand Hyatt Atlanta, 3300 Peachtree Road, NE., Atlanta, GA 30305, Telephone: (404) 237-1234.

Status: The meeting will be closed to the public in accordance with provisions set forth in section 552b(c)(4) and (6), Title 5 U.S.C., and the Determination of the Director, Management Analysis and Services Office, CDC, pursuant to Public Law 92-463.

Matters To Be Discussed: The meeting will include the review, discussion, and evaluation of applications received in response to “Spina Bifida Patient Registry Demonstration Project (U01), PA DP 08-001.”

For More Information Contact: Gwendolyn Cattledge, Deputy Associate Director for Science, CDC, 1600 Clifton Road, NE., Mailstop F63, Atlanta, GA 30333, Telephone (770) 488-4655.

The Director, Management Analysis and Services Office, has been delegated the authority to sign Federal Register notices pertaining to announcements of meetings and other committee management activities, for both CDC and the Agency for Toxic Substances and Disease Registry.

Dated: June 16, 2008.
Elaine L. Baker,
Director, Management Analysis and Services Office, Centers for Disease Control and Prevention.

[FR Doc. E8-14088 Filed 6-20-08; 8:45 am]

BILLING CODE 4163-18-P